ENVIRONMENTAL PROTECTION AGENCY

40 CFR Part 63

[EPA-HQ-OAR-2010-0544; FRL-9947-30-OAR]

RIN 2060-AS94

National Emission Standards for Hazardous Air Pollutants for Secondary Aluminum Production

AGENCY: Environmental Protection Agency (EPA).

ACTION: Direct final rule.

SUMMARY: The Environmental Protection Agency (EPA) is taking direct final action to amend the National Emission Standards for Hazardous Air Pollutants for Secondary Aluminum Production (Secondary Aluminum NESHAP). This direct final rule amends the final rule that was published in the Federal Register on September 18, 2015, by correcting inadvertent errors, clarifying rule requirements for initial performance tests and submittal of malfunction reports, providing an additional option for new round top furnaces to account for unmeasured emissions during compliance testing, and clarifying what constitutes a change in furnace operating mode. The direct final rule also updates Web site addresses for the EPA's Electronic Reporting Tool (ERT) and the Compliance and Emissions Data Reporting Interface (CEDRI). These amendments will help to improve compliance and implementation of the rule.

DATES: This rule is effective on September 12, 2016 without further notice, unless the EPA receives adverse comment by July 28, 2016 If the EPA receives adverse comment, we will publish a timely withdrawal in the Federal Register informing the public that the rule will not take effect.

Public Hearing. If anyone contacts the EPA requesting to speak at a public hearing by June 20, 2016 we will hold a public hearing on June 28, 2016 on the EPA campus at 109 T.W. Alexander Drive, Research Triangle Park, North Carolina.

ADDRESSES: Comments. Submit your comments, identified by Docket ID No. EPA-HQ-OAR-2010-0544, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, the full EPA public comment policy, information about CBI or multimedia submissions, and general guidance on making effective comments, please visit http://www2.epa.gov/dockets/commenting-epa-dockets.

FOR FURTHER INFORMATION CONTACT: Ms. Rochelle Boyd, Sector Policies and Programs Division (D243-02), Office of Air Quality Planning and Standards, U.S. Environmental Protection Agency, Research Triangle Park, North Carolina 27711; telephone number: (919) 541-1390; fax number: (919) 541-3207; and email address: boyd.rochelle@epa.gov.

SUPPLEMENTARY INFORMATION:

Organization of This Document. The information in this preamble is organized as follows:

I. General Information

A. Why is the EPA publishing a direct final rule?

B. Does this direct final rule apply to me?

C. What should I consider as I prepare my comments for the EPA?

II. What are the amendments made by this direct final rule?

III. Statutory and Executive Order Reviews

A. Executive Order 12866: Regulatory Planning and Review and Executive Order 13563: Improving Regulation and Regulatory Review

B. Paperwork Reduction Act (PRA)

C. Regulatory Flexibility Act (RFA)

D. Unfunded Mandates Reform Act (UMRA)

E. Executive Order 13132: Federalism

F. Executive Order 13175: Consultation and Coordination With Indian Tribal Governments

G. Executive Order 13045: Protection of Children From Environmental Health Risks and Safety Risks

H. Executive Order 13211: Actions Concerning Regulations That Significantly Affect Energy Supply, Distribution, or Use

I. National Technology Transfer and Advancement Act (NTTAA)

J. Executive Order 12898: Federal Actions To Address Environmental Justice in Minority Populations and Low-Income Populations

K. Congressional Review Act (CRA)

I. General Information

A. Why is the EPA publishing a direct final rule?

The EPA is publishing this direct final rule without a prior proposed rule because we view this as a noncontroversial action and anticipate no adverse comment. However, in the “Proposed Rules” section of this Federal Register, we are publishing a separate document that will serve as the proposed rule to amend the Secondary Aluminum NESHAP, if adverse comments are received on this direct final rule. We will not institute a second comment period on this action. Any parties interested in commenting must do so at this time. For further information about commenting on this rule, see the ADDRESSES section of this document.

If the EPA receives adverse comment on all or a distinct portion of this direct final rule, we will publish a timely withdrawal in the Federal Register informing the public that some or all of this direct final rule will not take effect. We would address all public comments in any subsequent final rule based on the proposed rule.

B. Does this direct final rule apply to me?

Categories and entities potentially regulated by this direct final rule include:

Category | NAICS code ¹
Primary Aluminum Production Facilities | 331312
Secondary Aluminum Production Facilities | 331314
Aluminum Sheet, Plate, and Foil Manufacturing Facilities | 331315
Aluminum Extruded Product Manufacturing Facilities | 331316
Other Aluminum Rolling and Drawing Facilities | 331319
Aluminum Die Casting Facilities | 331521
Aluminum Foundry Facilities | 331524
¹ North American Industry Classification System.

This table is not intended to be exhaustive, but rather provides a guide for readers regarding entities likely to be regulated by this direct final rule. To determine whether your facility is affected, you should examine the applicability criteria in 40 CFR 63.1500. If you have any questions regarding the applicability of any aspect of this action to a particular entity, consult either the air permitting authority for the entity or your EPA Regional representative as listed in 40 CFR 63.13.

C. What should I consider as I prepare my comments for the EPA?

Do not submit information containing CBI to the EPA through http://www.regulations.gov or email. Clearly mark the part or all of the information that you claim to be CBI. For CBI information on a disk or CD-ROM that you mail to the EPA, mark the outside of the disk or CD-ROM as CBI and then identify electronically within the disk or CD-ROM the specific information that is claimed as CBI. In addition to one complete version of the comments that includes information claimed as CBI, a copy of the comments that does not contain the information claimed as CBI must be submitted for inclusion in the public docket. Information so marked will not be disclosed except in accordance with procedures set forth in 40 CFR part 2. Send or deliver information identified as CBI only to the following address: OAQPS Document Control Officer (C404-02), OAQPS, U.S. Environmental Protection Agency, Research Triangle Park, North Carolina 27711, Attention Docket ID No. EPA-HQ-OAR-2010-0544.

II. What are the amendments made by this direct final rule?

This direct final rule amends the table in Appendix A titled “Appendix A to Subpart RRR of Part 63—General Provisions Applicability to Subpart RRR.” As published in the Federal Register on September 18, 2015, the table consisted of three columns labeled “Citation,” “Applies to RRR,” and “Comment.” The EPA had intended to include a fourth column labeled “Requirement,” but this column was inadvertently omitted from the September 18, 2015, publication in the Federal Register. We are revising the table by adding a column labeled “Requirement,” which contains a brief description of the cited General Provision and republishing the entire table with appropriate updated information and clarifications. This amendment will provide additional information to the public on the content of the General Provision citations.

In response to stakeholder feedback, this direct final rule also amends 40 CFR 63.1514(e), which contains the limits on the frequency of changing furnace operating mode. The amendment clarifies that a change from one operating mode and subsequently back to the initial mode constitutes a single change. With respect to the options available to new round top furnaces to account for unmeasured emissions during compliance testing, this direct final rule also amends 40 CFR 63.1512(e)(5) to extend to new round top furnaces a compliance testing option to account for unmeasured emissions during compliance testing that is already available to uncontrolled group 1 furnaces. With this amendment, new round top furnaces will now have the option of assuming an 80-percent capture efficiency for the furnace exhaust during testing. We are adding 40 CFR 63.1516(b)(4) of the reporting requirements to clarify that malfunction reports required by 40 CFR 63.1516(d) must be submitted as part of the semiannual excess emissions/summary reports required by 40 CFR 63.1516(b). With respect to reconstructed sources, we are revising 40 CFR 63.1511(b) to clarify that under this provision reconstructed sources will be treated like new sources. In addition to correcting several minor typographical errors, we are correcting the inadvertent deletion of 40 CFR 63.1510(e)(1) and (2) from the regulatory text. These provisions relate to equipment accuracy and calibration and were previously codified when the Secondary Aluminum NESHAP was originally promulgated in 2000. The September 18, 2015, action mistakenly removed these provisions. This rulemaking replaces these provisions in the regulatory text to ensure that the regulated community has a clear understanding of the applicable compliance requirements.

III. Statutory and Executive Order Reviews

Additional information about these statutes and Executive Orders can be found at http://www2.epa.gov/laws-regulations/laws-and-executive-orders.

A. Executive Order 12866: Regulatory Planning and Review and Executive Order 13563: Improving Regulation and Regulatory Review

This action is not a significant regulatory action and was, therefore, not submitted to the Office of Management and Budget (OMB) for review.

B. Paperwork Reduction Act (PRA)

This action does not impose any new information collection burden under the PRA. OMB has previously approved the information collection activities contained in the existing regulation (40 CFR part 63, subpart RRR), and has assigned OMB control number 2060-0433. This action does not change the information collection requirements.

C. Regulatory Flexibility Act (RFA)

I certify that this action will not have a significant economic impact on a substantial number of small entities under the RFA. This action will not impose any requirements on small entities. This action does not create any new requirements or burdens and no costs are associated with this direct final action.

D. Unfunded Mandates Reform Act (UMRA)

This action does not contain any unfunded mandate as described in UMRA, 2 U.S.C. 1531-1538, and does not significantly or uniquely affect small governments.

The action imposes no enforceable duty on any state, local, or tribal governments or the private sector.

E. Executive Order 13132: Federalism

This action does not have federalism implications. It will not have substantial direct effects on the states, on the relationship between the national government and the states, or on the distribution of power and responsibilities among the various levels of government.

F. Executive Order 13175: Consultation and Coordination With Indian Tribal Governments

This action does not have tribal implications, as specified in Executive Order 13175. There are no secondary aluminum production facilities owned or operated by tribal governments. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

H. Executive Order 13211: Actions Concerning Regulations That Significantly Affect Energy Supply, Distribution, or Use

This action is not subject to Executive Order 13211 because it is not a significant regulatory action under Executive Order 12866.

I. National Technology Transfer and Advancement Act (NTTAA)

This rulemaking does not involve technical standards.

J. Executive Order 12898: Federal Actions To Address Environmental Justice in Minority Populations and Low-Income Populations

The EPA believes the human health or environmental risk addressed by this section will not have potential disproportionately high and adverse human health or environmental effects on minority, low-income, or indigenous populations. This action does not affect the level of protection provided to human health or the environment. The final amendments are either clarifications or corrections of compliance alternatives that will neither increase or decrease environmental protection.

K. Congressional Review Act (CRA)

This action is subject to the CRA, and the EPA will submit a rule report to each House of the Congress and to the Comptroller General of the United States. This action is not a “major rule” as defined by 5 U.S.C. 804(2).

List of Subjects in 40 CFR Part 63

Environmental protection, Administrative practice and procedures, Air pollution control, Hazardous substances, Intergovernmental relations, Reporting and recordkeeping requirements.

Dated: May 27, 2016.
Gina McCarthy,
Administrator.

For the reasons stated in the preamble, the Environmental Protection Agency is amending title 40, chapter I, part 63 of the Code of Federal Regulations (CFR) as follows:

PART 63—NATIONAL EMISSION STANDARDS FOR HAZARDOUS AIR POLLUTANTS FOR SOURCE CATEGORIES

1. The authority citation for part 63 continues to read as follows:

Authority: 42 U.S.C. 7401, et seq.

Subpart RRR—National Emission Standards for Hazardous Air Pollutants for Secondary Aluminum Production

2. Section 63.1510 is amended by revising paragraph (b) introductory text and adding paragraphs (e)(1) and (2) to read as follows:

§ 63.1510 Monitoring requirements.

* * * * *

(b) Operation, maintenance, and monitoring (OM&M) plan. The owner or operator must prepare and implement for each new or existing affected source and emission unit, a written OM&M plan. The owner or operator of an existing affected source must submit the OM&M plan to the permitting authority for major sources, or the Administrator for area sources no later than the compliance date established by § 63.1501. The owner or operator of any new affected source must submit the OM&M plan to the permitting authority for major sources, or the Administrator for area sources within 90 days after a successful initial performance test under § 63.1511(b), or within 90 days after the compliance date established by § 63.1501 if no initial performance test is required. The plan must be accompanied by a written certification by the owner or operator that the OM&M plan satisfies all requirements of this section and is otherwise consistent with the requirements of this subpart. The owner or operator must comply with all of the provisions of the OM&M plan as submitted to the permitting authority for major sources, or the Administrator for area sources, unless and until the plan is revised in accordance with the following procedures. If the permitting authority for major sources, or the Administrator for area sources determines at any time after receipt of the OM&M plan that any revisions of the plan are necessary to satisfy the requirements of this section or this subpart, the owner or operator must promptly make all necessary revisions and resubmit the revised plan. If the owner or operator determines that any other revisions of the OM&M plan are necessary, such revisions will not become effective until the owner or operator submits a description of the changes and a revised plan incorporating them to the permitting authority for major sources, or the Administrator for area sources. Each plan must contain the following information:

* * * * *

(e) * * *

(1) The accuracy of the weight measurement device or procedure must be ±1 percent of the weight being measured. The owner or operator may apply to the permitting agency for approval to use a device of alternative accuracy if the required accuracy cannot be achieved as a result of equipment layout or charging practices. A device of alternative accuracy will not be approved unless the owner or operator provides assurance through data and information that the affected source will meet the relevant emission standard.

(2) The owner or operator must verify the calibration of the weight measurement device in accordance with the schedule specified by the manufacturer, or if no calibration schedule is specified, at least once every 6 months.

* * * * *

3. Section 63.1511 is amended by revising paragraph (b) introductory text and paragraph (i) heading to read as follows:

§ 63.1511 Performance test/compliance demonstration general requirements.

* * * * *

(b) Initial performance test. Following approval of the site-specific test plan, the owner or operator must demonstrate initial compliance with each applicable emission, equipment, work practice, or operational standard for each affected source and emission unit, and report the results in the notification of compliance status report as described in § 63.1515(b). The owner or operator of any affected source constructed before February 14, 2012, for which an initial performance test is required to demonstrate compliance must conduct this initial performance test no later than the date for compliance established by § 63.1501. The owner or operator of any affected source constructed or reconstructed after February 14, 2012, for which an initial performance test is required must conduct this initial performance test within 180 days after the date for compliance established by § 63.1501. Except for the date by which the performance test must be conducted, the owner or operator must conduct each performance test in accordance with the requirements and procedures set forth in § 63.7(c). Owners or operators of affected sources located at facilities which are area sources are subject only to those performance testing requirements pertaining to D/F. Owners or operators of sweat furnaces meeting the specifications of § 63.1505(f)(1) are not required to conduct a performance test.

* * * * *

(i) Testing of commonly-ducted units not within a secondary aluminum processing unit. * * *

* * * * *

4. Section 63.1512 is amended by revising paragraph (e)(4) introductory text, paragraph (e)(4)(v), and paragraph (e)(5) to read as follows:

§ 63.1512 Performance test/compliance demonstration requirements and procedures.

* * * * *

(e) * * *

(4) When testing an existing uncontrolled furnace, the owner or operator must comply with the requirements of either paragraphs (e)(4)(i), (ii), or (iii) of this section at the next required performance test required by § 63.1511(e).

* * * * *

(v) Round top furnaces constructed before February 14, 2012, and reconstructed round top furnaces are exempt from the requirements of paragraphs (e)(4)(i), (ii), and (iii) of this section. Round top furnaces must be operated to minimize unmeasured emissions according to paragraph (e)(7) of this section.

(5) When testing a new uncontrolled furnace, other than a new round top furnace, constructed after February 14, 2012, the owner or operator must comply with the requirements of paragraph (e)(5)(i) or (ii) of this section at the next required performance test required by § 63.1511(e). When testing a new round top furnace constructed after February 14, 2012, the owner or operator must comply with the requirements of either paragraphs (e)(5)(i), (ii), or (iii) of this section at the next required performance test required by § 63.1511(e).

(i) Install hooding that meets ACGIH Guidelines (incorporated by reference, see § 63.14), or

(ii) At least 180 days prior to testing petition the permitting authority for major sources, or the Administrator for area sources, that such hoods are impractical under the provisions of paragraph (e)(6) of this section and propose testing procedures that will minimize unmeasured emissions during the performance test according to the paragraph (e)(7) of this section, or

(iii) Assume an 80-percent capture efficiency for the furnace exhaust (i.e., multiply emissions measured at the furnace exhaust outlet by 1.25). If the source fails to demonstrate compliance using the 80-percent capture efficiency assumption, the owner or operator must re-test with a hood that meets the ACGIH Guidelines within 180 days, or petition the permitting authority for major sources, or the Administrator for area sources, within 180 days that such hoods are impractical under the provisions of paragraph (e)(6) of this section and propose testing procedures that will minimize unmeasured emissions during the performance test according to paragraph (e)(7) of this section.

(iv) The 80-percent capture efficiency assumption is not applicable in the event of testing conducted under an approved petition submitted pursuant to paragraphs (e)(5)(ii) or (iii) of this section.

* * * * *

5. Section 63.1513 is amended by revising paragraph (f)(2) to read as follows:

§ 63.1513 Equations for determining compliance.

* * * * *

(f) * * *

(2) For periods of startup and shutdown, divide your measured emissions in lb/hr or µg/hr or ng/hr by the feed/charge rate in tons/hr or Mg/hr from your most recent performance test associated with a production rate greater than zero, or the rated capacity of the affected source if no prior performance test data are available.

6. Section 63.1514 is amended by revising paragraphs (e) heading and (e)(1) to read as follows:

§ 63.1514 Change of furnace classification.

* * * * *

(e) Limit on frequency of changing furnace operating mode. (1) A change in furnace operating mode, which consists of changing from one furnace operating mode to another and subsequently back to the initial operating mode, as provided in paragraphs (a) through (d) of this section, may not be done more frequently than 4 times in any 6-month period unless you receive approval from the permitting authority or Administrator for additional changes pursuant to paragraph (e)(2).

* * * * *

7. Section 63.1515 is amended by revising paragraph (b) introductory text to read as follows:

§ 63.1515 Notifications.

* * * * *

(b) Notification of compliance status report. Each owner or operator of an existing affected source must submit a notification of compliance status report within 60 days after the compliance date established by § 63.1501. Each owner or operator of a new affected source must submit a notification of compliance status report within 90 days after conducting the initial performance test required by § 63.1511(b), or within 90 days after the compliance date established by § 63.1501 if no initial performance test is required. The notification must be signed by the responsible official who must certify its accuracy. A complete notification of compliance status report must include the information specified in paragraphs (a)(1) through (10) of this section. The required information may be submitted in an operating permit application, in an amendment to an operating permit application, in a separate submittal, or in any combination. In a State with an approved operating permit program where delegation of authority under section 112(l) of the CAA has not been requested or approved, the owner or operator must provide duplicate notification to the applicable Regional Administrator. If an owner or operator submits the information specified in this section at different times or in different submittals, later submittals may refer to earlier submittals instead of duplicating and resubmitting the information previously submitted. A complete notification of compliance status report must include:

* * * * *

8. Section 63.1516 is amended by revising paragraph (b)(3)(i)(A), adding paragraph (b)(4), and revising paragraph (d) to read as follows:

§ 63.1516 Reports.

* * * * *

(b) * * *

(3) * * *

(i) * * *

(A) For data collected using test methods supported by the EPA's Electronic Reporting Tool (ERT) as listed on the EPA's ERT Web site (https://www3.epa.gov/ttn/chief/ert/ert_info.html), you must submit the results of the performance test to the EPA via the Compliance and Emissions Data Reporting Interface (CEDRI). (CEDRI can be accessed through the EPA's Central Data Exchange (CDX) (https://cdx.epa.gov/).) Performance test data must be submitted in a file format generated through the use of the EPA's ERT or an alternate electronic file format consistent with the extensible markup language (XML) schema listed on the EPA's ERT Web site. If you claim that some of the performance test information being submitted is confidential business information (CBI), you must submit a complete file generated through the use of the EPA's ERT or an alternate electronic file consistent with the XML schema listed on the EPA's ERT Web site, including information claimed to be CBI, on a compact disc, flash drive, or other commonly used electronic storage media to the EPA. The electronic media must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described earlier in this paragraph.

* * * * *

(4) A malfunction report that is required under paragraph (d) of this section shall be submitted simultaneously with the semiannual excess emissions/summary report required by paragraph (b) of this section.

* * * * *

(d) If there was a malfunction during the reporting period, the owner or operator must submit a report that includes the emission unit ID, monitor ID, pollutant or parameter monitored, beginning date and time of the event, end date and time of the event, cause of the deviation or exceedance and corrective action taken for each malfunction which occurred during the reporting period and which caused or may have caused any applicable emission limitation to be exceeded. The report must include a list of the affected source or equipment, an estimate of the quantity of each regulated pollutant emitted over any emission limit, and a description of the method used to estimate the emissions, including, but not limited to, product-loss calculations, mass balance calculations, measurements when available, or engineering judgment based on known process parameters. The report must also include a description of actions taken by an owner or operator during a malfunction of an affected source to minimize emissions in accordance with § 63.1506(a)(5).

* * * * *

9. Section 63.1517 is amended by revising paragraph (b)(18)(ii) to read as follows:

§ 63.1517 Records.

* * * * *

(b) * * *

(18) * * *

(ii) Records of actions taken during periods of malfunction to minimize emissions in accordance with § 63.1506(a)(5), including corrective actions to restore malfunctioning process and air pollution control and monitoring equipment to its normal or usual manner of operation.

* * * * *

10. Table 1 to Subpart RRR of part 63 is revised to read as follows:

BILLING CODE 6560-50-P

BILLING CODE 6560-50-C

11. Table 2 to Subpart RRR of part 63 is amended by revising the entry “Group 1 furnace without add-on air pollution controls (including those that are part of a secondary aluminum processing unit)” to read as follows:

Table 2 to Subpart RRR of Part 63—Summary of Operating Requirements for New and Existing Affected Sources and Emission Units
Affected source/emission unit | Monitor type/operation/process | Operating requirements
* * * * * * *
Group 1 furnace without add-on air pollution controls (including those that are part of a secondary aluminum processing unit) | Reactive flux injection rate | Maintain the total reactive chlorine flux injection rate and total reactive fluorine flux injection rate for each operating cycle or time period used in the performance test at or below the average rate established during the performance test.
* * * * * * *

* * * * *

12. Table 3 to Subpart RRR of part 63 is amended by:

a. Revising the entry “In-line fluxer with lime-injected fabric filter;”

b. Revising the entry “Group 1 furnace with lime-injected fabric filter:” and

c. Revising footnote d to Table 3.

The revisions read as follows:

Table 3 to Subpart RRR of Part 63—Summary of Monitoring Requirements for New and Existing Affected Sources and Emission Units
Affected source/emission unit | Monitor type/operation/process | Operating requirements
* * * * * * *
In-line fluxer with lime-injected fabric filter | Bag leak detector or | Install and operate in accordance with manufacturer's operating instructions.
| COM | Design and install in accordance with PS-1; collect data in accordance with subpart A of 40 CFR part 63; determine and record 6-minute block averages.
| Reactive flux injection rate | Weight measurement device accuracy of ±1%; ᵇ calibrate according to manufacturer's specifications or at least once every 6 months; record time, weight and type of reactive flux added or injected for each 15-minute block period while reactive fluxing occurs; calculate and record total reactive chlorine flux injection rate and the total reactive fluorine flux injection rate for each operating cycle or time period used in performance test; or Alternative flux injection rate determination procedure per § 63.1510(j)(5). For solid flux added intermittently, record the amount added for each operating cycle or time period used in the performance test.
* * * * * * *
Group 1 furnace with lime-injected fabric filter | Bag leak detector or | Install and operate in accordance with manufacturer's operating instructions.
| COM | Design and install in accordance with PS-1; collect data in accordance with subpart A of 40 part CFR 63; determine and record 6-minute block averages.
| Lime injection rate | For continuous injection systems, record feeder setting daily and inspect each feed hopper or silo every 8 hours to verify that lime is free-flowing; record results of each inspection. If blockage occurs, inspect every 4 hours for 3 days; return to 8-hour inspections if corrective action results in no further blockage during 3-day period.ᶜ Verify monthly that the lime injection rate is no less than 90 percent of the rate used during the compliance demonstration test.
| Reactive flux injection rate | Weight measurement device accuracy of ±1%; ᵇ calibrate every 3 months; record weight and type of reactive flux added or injected for each 15-minute block period while reactive fluxing occurs; calculate and record total reactive chlorine flux injection rate and the total reactive fluorine flux injection rate for each operating cycle or time period used in performance test; or Alternative flux injection rate determination procedure per § 63.1510(j)(5). For solid flux added intermittently, record the amount added for each operating cycle or time period used in the performance test.
* * * * * * *
* * * * * * *
ᵇ Permitting agency may approve measurement devices of alternative accuracy, for example in cases where flux rates are very low and costs of meters of specified accuracy are prohibitive; or where feed/charge weighing devices of specified accuracy are not practicable due to equipment layout or charging practices.
ᶜ Permitting authority for major sources, or the Administrator for area sources may approve other alternatives including load cells for lime hopper weight, sensors for carrier gas pressure, or HCl monitoring devices at fabric filter outlet.
ᵈ The frequency of volumetric flow rate measurements may be decreased to once every 5 years if daily differential pressure measures, daily fan RPM, or daily fan motor amp measurements are made in accordance with § 63.1510(d)(2)(ii)-(iii). The frequency of annual verification of a permanent total enclosure may be decreased to once every 5 years if negative pressure measurements in the enclosure are made daily in accordance with § 63.1510(d)(2)(iv). In lieu of volumetric flow rate measurements or verification of permanent total enclosure, sweat furnaces may demonstrate annually negative air flow into the sweat furnace opening in accordance with § 63.1510(d)(3).
* * * * * * *

13. Revise Appendix A to Subpart RRR of part 63 to read as follows:

Appendix A to Subpart RRR of Part 63—General Provisions Applicability to Subpart RRR
Citation | Requirement | Applies to RRR | Comment
§ 63.1(a)(1)-(4) | General Applicability | Yes
§ 63.1(a)(5) |  | No | [Reserved].
§ 63.1(a)(6) |  | Yes
§ 63.1(a)(7)-(9) |  | No | [Reserved].
§ 63.1(a)(10)-(12) |  | Yes
§ 63.1(b) | Initial Applicability Determination | Yes | EPA retains approval authority.
§ 63.1(c)(1) | Applicability After Standard Established | Yes
§ 63.1(c)(2) |  | Yes | § 63.1500(e) exempts area sources subject to this subpart from the obligation to obtain Title V operating permits.
§ 63.1(c)(3)-(4) |  | No | [Reserved].
§ 63.1(c)(5) |  | Yes
§ 63.1(d) |  | No | [Reserved].
§ 63.1(e) | Applicability of Permit Program | Yes
§ 63.2 | Definitions | Yes | Additional definitions in § 63.1503.
§ 63.3 | Units and Abbreviations | Yes
§ 63.4(a)(1)-(2) | Prohibited Activities | Yes
§ 63.4(a)(3)-(5) |  | No | [Reserved].
§ 63.4(b) | Circumvention | Yes
§ 63.4(c) | Fragmentation | Yes
§ 63.5(a) | Applicability of Preconstruction Review and Notification | Yes
§ 63.5(b)(1) | Requirements for Existing, Newly, Constructed Sources and Reconstructed Sources | Yes
§ 63.5(b)(2) |  | No | [Reserved].
§ 63.5(b)(3)-(4) |  | Yes
§ 63.5(b)(5) |  | No | [Reserved].
§ 63.5(b)(6) |  | Yes
§ 63.5(c) |  | No | [Reserved].
§ 63.5(d) | Application for Approval of Construction or Reconstruction | Yes
§ 63.5(e) | Approval of Construction or Reconstruction | Yes
§ 63.5(f) | Approval of Construction or Reconstruction Based on Prior State Preconstruction Review | Yes
§ 63.6(a) | Applicability for Compliance with Standards and Maintenance Requirements | Yes
§ 63.6(b)(1)-(5) | Compliance Dates for New and Reconstructed Sources | Yes | § 63.1501 specifies dates.
§ 63.6(b)(6) |  | No | [Reserved].
§ 63.6(b)(7) |  | Yes
§ 63.6(c)(1) | Compliance Dates for Existing Sources | Yes | § 63.1501 specifies dates.
§ 63.6(c)(2) |  | Yes
§ 63.6(c)(3)-(4) |  | No | [Reserved].
§ 63.6(c)(5) |  | Yes
§ 63.6(d) |  | No | [Reserved].
§ 63.6(e)(1)(i) | Operation and Maintenance Requirements | No | See § 63.1506(a)(5) for general duty requirement. Any other cross reference to § 63.6(3)(1)(i) in any other general provision referenced shall be treated as a cross reference to § 63.1506(a)(5).
§ 63.6(e)(1)(ii) |  | No
§ 63.6(e)(2) |  | No | [Reserved].
§ 63.6(e)(3) | Startup, Shutdown, and Malfunction Plan | No
§ 63.6(f)(1) | Compliance with Nonopacity Emission Standards | No
§ 63.6(f)(2) |  | Yes
§ 63.6(g) | Use of an Alternative Nonopacity Emission Standard | No
§ 63.6(h)(1) | Applicability for Compliance with Opacity and Visible Emission Standards | No
§ 63.6(h)(2) | Methods for Determining Compliance | Yes
§ 63.6(h)(3) |  | No | [Reserved].
§ 63.6(h)(4)-(9) |  | Yes
§ 63.6(i)(1)-(14) | Extension of Compliance | Yes
§ 63.6(i)(15) |  | No | [Reserved].
§ 63.6(i)(16) |  | Yes
§ 63.6(j) | Exemption from Compliance | Yes
§ 63.7(a) | Applicability and Performance Test Dates | Yes | Except § 63.1511 establishes dates for initial performance tests.
§ 63.7(b) | Notification of Performance Test | Yes
§ 63.7(c) | Quality Assurance Program | Yes
§ 63.7(d) | Performance Testing Facilities | Yes
§ 63.7(e)(1) | Conduct of Performance Tests | No
§ 63.7(e)(2) |  | Yes
§ 63.7(e)(3) |  | Yes
§ 63.7(f) | Use of an Alternative Test Method | Yes
§ 63.7(g)(1)-(3) | Data Analysis, Recordkeeping, and Reporting | Yes | Except for § 63.7(g)(2), which is reserved.
§ 63.7(h)(1)-(5) | Waiver of Performance Tests | Yes
§ 63.8(a)(1) | Applicability for Monitoring Requirements | Yes
§ 63.8(a)(2) |  | Yes
§ 63.8(a)(3) |  | No | [Reserved].
§ 63.8(a)(4) |  | Yes
§ 63.8(b) | Conduct of Monitoring | Yes
§ 63.8(c)(1)(i) | Operation and Maintenance of Continuous Monitoring Systems (CMS) | No | See § 63.1506(a)(5) for general duty requirement.
§ 63.8(c)(1)(ii) |  | Yes
§ 63.8(c)(1)(iii) |  | No
§ 63.8(c)(2)-(8) |  | Yes
§ 63.8(d)(1)-(2) | Quality Control Program | Yes
§ 63.8(d)(3) |  | Yes, except for last sentence, which refers to an SSM plan. SSM plans are not required
§ 63.8(e) | Performance Evaluation of CMS | Yes
§ 63.8(f)(1)-(5) | Use of an Alternative Monitoring Method | No | § 63.1501(w) includes provisions for monitoring alternatives.
§ 63.8(f)(6) | Alternative to the Relative Accuracy Test | Yes
§ 63.8(g)(1) | Reduction of Monitoring Data | Yes
§ 63.8(g)(2) |  | No | § 63.1512 requires five 6-minute averages for an aluminum scrap shredder.
§ 63.8(g)(3)-(5) |  | Yes
§ 63.9(a) | Applicability and General Information for Notification Requirements | Yes
§ 63.9(b)(1)-(5) | Initial Notifications | Yes | Except § 63.9(b)(3) is reserved.
§ 63.9(c) | Request for Compliance Extension | Yes
§ 63.9(d) | Notification that Source is Subject to Special Compliance Requirements | Yes
§ 63.9(e) | Notification of Performance Test | Yes
§ 63.9(f) | Notification of Opacity and Visible Emission Observations | Yes
§ 63.9(g) | Additional Notification Requirement for Sources with CMS | Yes
§ 63.9(h)(1)-(3) | Notification of Compliance Status | Yes | Except § 63.1515 establishes dates notification of compliance status reports.
§ 63.9(h)(4) |  | No | [Reserved].
§ 63.9(h)(5)-(6) |  | Yes
§ 63.9(i) | Adjustment of Deadlines for Required Communications | Yes
§ 63.9(j) | Change in Information Already Provided | Yes
§ 63.10(a) | Applicability and General Information for Recordkeeping and Reporting Requirements | Yes
§ 63.10(b)(1) | General Recordkeeping Requirements | Yes
§ 63.10(b)(2)(i), (ii), (iv), (v) |  | No
§ 63.10(b)(2)(iii), (vi)-(xiv) |  | Yes | § 63.1517 includes additional requirements.
§ 63.10(b)(3) | Recordkeeping Requirement for Applicability Determinations | Yes
§ 63.10(c)(1) | Additional Recordkeeping Requirements for Sources with CMS | Yes
§ 63.10(c)(2)-(4) |  | No | [Reserved].
§ 63.10(c)(5) |  | Yes
§ 63.10(c)(6) |  | Yes
§ 63.10(c)(7)-(8) |  | Yes
§ 63.10(c)(9) |  | No | [Reserved].
§ 63.10(c)(10)-(13) |  | Yes
§ 63.10(c)(14) |  | Yes
§ 63.10(c)(15) |  | No
§ 63.10(d)(1) | General Reporting Requirements | Yes
§ 63.10(d)(2) | Reporting Results of Performance Tests | Yes
§ 63.10(d)(3) | Reporting Results of Opacity or Visible Emission Observations | Yes
§ 63.10(d)(4) | Progress Reports | No | See § 63.1516(d).
§ 63.10(d)(5) | Periodic Startup, Shutdown, and Malfunction Reports | No | See § 63.1516(d).
§ 63.10(e)(1)-(2) | Additional Reporting Requirements for Sources with CMS | Yes
§ 63.10(e)(3) | Excess Emissions and CMS Performance Report and Summary Report | Yes | Reporting deadline given in § 63.1516.
§ 63.10(e)(4) | Continuous Opacity Monitoring System (COMS) Data Produced During a Performance Test | Yes
§ 63.10(f) | Waiver of Recordkeeping or Reporting Requirements | Yes
§ 63.11(a)-(e) | Control Device and Work Practice Requirements | No | Flares not applicable.
§ 63.12(a)-(c) | State Authority and Delegations | Yes | EPA retains authority for applicability determinations.
§ 63.13 | Addresses | Yes
§ 63.14 | Incorporations by Reference | Yes | ACGIH Guidelines, ASTM D7520-13, and Interim Procedures for Estimating Risks Associated with Exposures to Mixtures of Chlorinated Dibenzo-p-Dioxins and -Dibenzofurans (CDDs and CDFs) and 1989 Update.
§ 63.15 | Availability of Information and Confidentiality | Yes
§ 63.16 | Performance Track Provisions | No

[FR Doc. 2016-13505 Filed 6-10-16; 8:45 am]

BILLING CODE 6560-50-P